DEPARTMENT OF THE INTERIOR

Fish and Wildlife Service

[FWS-HQ-ES-2019-N047; FXES11130100000C4-190-FF02ENEH00]

Endangered and Threatened Wildlife and Plants; 21 Draft Recovery Plan Revisions for 25 Species in 15 States Across the United States

AGENCY: Fish and Wildlife Service, Interior.

ACTION: Notice of availability; opening of public comment period.

SUMMARY: We, the U.S. Fish and Wildlife Service (Service), announce the availability for public review and comment of 21 draft recovery plan revisions, which update recovery criteria for 25 endangered or threatened species located in 15 States (Arizona, California, Colorado, Kentucky, Maine, New Hampshire, New Mexico, North Carolina, Oregon, Tennessee, Texas, Utah, Vermont, Virginia, West Virginia). We are updating recovery criteria to better assist in determining when an endangered species has recovered to the point that it may be reclassified as threatened, or that the protections afforded by the Endangered Species Act (ESA) are no longer necessary and the species may be removed from the ESA's protections. We request review of these draft recovery plan revisions and invite comments from local, State, Tribal, and Federal agencies, nongovernmental organizations, and the public.

DATES: We must receive comments on the draft recovery plan revisions on or before September 5, 2019.

ADDRESSES: Reviewing documents: If you wish to review the draft recovery plan revisions, you may obtain copies from the website addresses in the table in SUPPLEMENTARY INFORMATION. You may also request copies of the draft recovery plan revisions by contacting the individuals listed in the table.

Submitting comments: If you wish to comment, see the table in SUPPLEMENTARY INFORMATION and submit your comments by one of the following methods:

1. U.S. Mail or hand-delivery: You may submit written comments and materials to the appropriate field office mailing address for the species in which you are interested;

2. Email: You may send comments by email to the identified contact person's email address in the table, for each species. Please include “Draft Recovery Plan Revision Comments” in the subject line.

FOR FURTHER INFORMATION CONTACT: For information on a particular species, contact the appropriate person listed in the table for that species in SUPPLEMENTARY INFORMATION. Individuals who are hearing impaired may call the Federal Relay Service at 800-877-8339 for TTY assistance.

SUPPLEMENTARY INFORMATION:

Background

In this notice, we announce for public review and comment the availability of 21 draft recovery plan revisions, which update recovery criteria for 25 endangered or threatened species located in 15 States (Arizona, California, Colorado, Kentucky, Maine, New Hampshire, New Mexico, North Carolina, Oregon, Tennessee, Texas, Utah, Vermont, Virginia, and West Virginia). This group of 21 draft recovery plan revisions is part of a larger effort underway to revise up to 182 recovery plans covering up to 305 species in order to achieve the following Department of the Interior Agency Priority Performance Goal outlined in the Department's Strategic Plan for Fiscal Years 2018-2022: “By September 30, 2019, 100 percent of all Fish and Wildlife Service recovery plans will have quantitative criteria for what constitutes a recovered species.”

The purpose of a recovery plan is to provide a feasible and effective roadmap for a species' recovery, with the goal of improving its status and managing its threats to the point at which protections under the Endangered Species Act (ESA; 16 U.S.C. 1531 et seq.) are no longer needed. Recovery plans must be designed so that all stakeholders and the public understand the rationale behind the recovery program, whether they were involved in writing the plan or not, and recognize their role in its implementation. We are requesting submission of any information that enhances the necessary understanding of the (1) species' biology and threats and (2) recovery needs and related implementation issues or concerns, to ensure that we have assembled, considered, and incorporated the best available scientific and commercial information into the draft recovery plan revisions for these 25 species.

Recovery plans provide important guidance to the Service, States, other partners, and the general public on methods of minimizing threats to listed species and objectives against which to measure the progress towards recovery; they are guidance and not regulatory documents. A recovery plan identifies, organizes, and prioritizes recovery actions and is an important guide that ensures sound scientific decision-making throughout the recovery process, which can take decades. Keeping recovery plans current ensures that threatened species and endangered species benefit through timely partner-coordinated implementation, based on the best available information.

A review of a recovery plan and its implementation may show that the plan is out of date or its usefulness is limited and that the plan warrants modification. The need for, and extent of, recovery plan modifications will vary considerably among recovery plans, depending on the scope and complexity of the initial plan, the structure of the document, and the involvement of stakeholders. Recovery plan modifications can range from relatively minor updates to a substantial rewrite that revises the existing plan in part (i.e., an amendment to one of the sections that modifies the existing plan), or in full (i.e., a full revision that completely replaces the existing plan). The need for a recovery plan revision may be triggered when, among other possibilities, (1) new information has been identified, such as population-level threats to the species or previously unknown life-history traits, which necessitates new or revised recovery strategy, actions, or criteria, or revision of all three in order to maintain the adequacy of the plan; and (2) the current plan is not achieving its objectives. Revisions benefit endangered and threatened species, our partners, and the public by incorporating the best available information on what is needed for species' recovery.

Revision of recovery plans requires public notice and comment under section 4(f)(4) of the ESA, including (1) a Federal Register notice of availability to give opportunity for public review and comment, (2) consideration of all information presented during the public comment period, and (3) approval by the Regional Director. When finalized, these recovery plan revisions will be made publicly available on the internet through our Environmental Conservation Online System (ECOS, https://ecos.fws.gov).

What plans are being made available for public review and comment?

This notice announces our draft recovery plan revisions for the species listed in the table below.

Common Name | Scientific name | Listing status ¹ | Current range | Recovery plan name | Internet availability of proposed recovery plan revision | Contact person, phone, email | Contact person's U.S. mail address
Southwest Region (Arizona, New Mexico, Oklahoma, and Texas)
Sonoran tiger salamander | Ambystoma tigrinum stebbinsi | E | AZ | Sonoran Tiger Salamander (Ambystoma tigrinum stebbinsi) Recovery Plan ² | https://ecos.fws.gov/docs/recovery_plan/Draft%20APG%20RP%20Amendment_Sonoran%20tiger%20salamander_03152019.pdf | Field Supervisor, 602-242-0210, incomingazcorr@fws.gov | Arizona Ecological Services Field Office, 9828 North 31st Avenue, #C3, Phoenix, AZ 85051.
Navajo sedge | Carex specuicola | T | AZ, UT | Recovery Plan for Navajo Sedge Carex specuicola ² | https://ecos.fws.gov/docs/recovery_plan/Draft%20APG%20RP%20Amendment_Navajo%20sedge_03152019.pdf
Nichol's Turk's head cactus | Echinocactus horizonthalonius var. nicholii | E | AZ | Recovery Plan for the Nichol's Turk's Head Cactus (Echinocactus horizonthalonius var. nicholii) ² | https://ecos.fws.gov/docs/recovery_plan/Draft%20APG%20RP%20Amendment_Nichols%20turks%20head_03152019.pdf
Little Colorado spinedace | Lepidomeda vittata | T | AZ | Little Colorado River Spinedace Lepidomeda vittata Recovery Plan ² | https://ecos.fws.gov/docs/recovery_plan/Draft%20APG%20RP%20Amendment_Little%20Colorado%20spinedace_03202019.pdf
Spikedace | Meda fulgida | E | AZ, NM | Spikedace, Meda fulgida Recovery Plan ² | https://ecos.fws.gov/docs/recovery_plan/Draft%20APG%20RP%20Amendment_spikedace_03152019.pdf
Loach minnow | Rhinichthys cobitis | E | AZ, NM | Loach Minnow, Tiaroga cobitis Recovery Plan ² | https://ecos.fws.gov/docs/recovery_plan/Draft%20APG%20RP%20Amendment_loach%20minnow_03152019.pdf
Masked bobwhite | Colinus virginianus ridgwayi | E | AZ | Masked Bobwhite Recovery Plan, Second Revision ² | https://ecos.fws.gov/docs/recovery_plan/Draft%20APG%20RP%20Amendment_masked%20bobwhite_03152019.pdf | William Radke, 520-364-2104, bill_radke@fws.gov | Buenos Aires, Leslie Canyon, & San Bernardino National Wildlife Refuges, P.O. Box 3509, Douglas, AZ 85607.
Texas poppy-mallow | Callirhoe scabriuscula | E | TX | Texas Poppy-Mallow Callirhoe scabriuscula Recovery Plan ² | https://ecos.fws.gov/docs/recovery_plan/Draft%20APG%20RP%20Amendment_Texas%20poppy%20mallow_03152019.pdf | Adam Zerrenner, 512-490-0057, adam_zerrenner@fws.gov | Austin Ecological Services Field Office, 10711 Burnet Road, Suite 200 Austin, TX 78758.
Fountain darter | Etheostoma fonticola | E | TX | San Marcos and Comal Springs and Associated Aquatic Ecosystems (Revised) Recovery Plan ² | https://ecos.fws.gov/docs/recovery_plan/Draft%20APG%20RP%20Amendment_San%20Marcos%20and%20Comal%20Springs_1.pdf
Texas blind salamander | Typhlomolge rathbuni | E | TX
Texas wild-rice | Zizania texana | E | TX
Black lace cactus | Echinocereus reichenbachii var. alberti | E | TX | Black Lace Cactus (Echinocereus reichenbachii var. albertii) Recovery Plan ² | https://ecos.fws.gov/docs/recovery_plan/Draft%20APG%20RP%20Amendment_black%20lace%20cactus.pdf | Chuck Ardizzone, 281-286-8282, chuck_ardizzone@fws.gov | Texas Coastal Ecological Services Field Office, 17629 El Camino Real, Suite 211, Houston, TX 77058.
Walker's manioc | Manihot walkerae | E | TX | Walker's Manioc Manihot walkerae Recovery Plan ² | https://ecos.fws.gov/docs/recovery_plan/Draft%20APG%20RP%20Amendment_Walkers%20manioc_03152019.pdf
Northeast Region (Connecticut, Delaware, the District of Columbia, Maine, Maryland, Massachusetts, New Hampshire, New Jersey, New York, Pennsylvania, Rhode Island, Vermont, Virginia, and West Virginia)
Jesup's milk-vetch | Astragalus robbinsii var. jesupi | E | NH, VT | Jesup's Milk-Vetch Recovery Plan (Astragalus robbinsii var. jesupi) Draft Revised Recovery Plan ³ | https://ecos.fws.gov/docs/recovery_plan/20190228_Draft%20JMV%20Recovery%20Plan_1.pdf | David Simmons, 603-227-6425, david_simmons@fws.gov | New England Field Office, 70 Commercial St., Suite 300, Concord, NH 03301.
Virginia big-eared bat | Corynorhinus townsendii virginianus | E | KY, NC, TN, VA, WV | A Recovery Plan for the Ozark Big-Eared Bat and the Virginia Big-Eared Bat ² | https://ecos.fws.gov/docs/recovery_plan/20190313_Draft%20VBEB%20Recovery%20Plan%20Amendment.pdf | Daphne Carlson Bremer, 304-636-6586, daphne_carlsonbremer@fws.gov | West Virginia Field Office, 90 Vance Drive, Elkins, WV 26241.
Furbish lousewort | Pedicularis furbishiae | E | ME | Recovery Plan for the Furbish's Lousewort (Pedicularis furbishiae), Draft Second Revision ³ | https://ecos.fws.gov/docs/recovery_plan/20190306_Furbish%20lousewort%20RP_draft%20final.pdf | Anna Harris, 207-469-7300, anna_harris@fws.gov | Maine Field Office, 306 Hatchery Road East, Orland, ME 04431.
Mountain-Prairie Region (Colorado, Kansas, Montana, Nebraska, North Dakota, South Dakota, Utah, Wyoming)
Pawnee montane skipper | Hesperia leonardus montana | T | CO | Pawnee Montane Skipper Recovery Plan ² | https://ecos.fws.gov/docs/recovery_plan/Pawnee%20montane%20skipper_Draft%20Amendment%201.pdf | Leslie Ellwood, 303-236-4747, leslie_ellwood@fws.gov | Colorado Ecological Services Field Office, 134 Union Blvd., Suite 670, Lakewood, CO 80228.
Dudley Bluffs bladderpod | Lesquerella congesta | T | CO | Dudley Bluffs Bladderpod (Lesquerella congesta) and Dudley Bluffs Twinpod (Physaria obcordata) Recovery Plan ³ | https://ecos.fws.gov/docs/recovery_plan/20190318_DudleyBluffs_DraftRecoveryPlan.pdf | Ann Timberman, 970-628-7181, ann_timberman@fws.gov | Colorado Ecological Services Field Office, Western Colorado Sub-Office, 445 W. Gunnison Ave., Suite 240, Grand Junction, CO 81504.
Dudley Bluffs twinpod | Physaria obcordata | T | CO
Pacific Southwest Region (California, Nevada, and the Klamath Basin area of Oregon)
Applegate's milk-vetch | Astragalus applegatei | E | CA, OR | Applegate's milk-vetch (Astragalus applegatei) Recovery Plan ² | https://ecos.fws.gov/docs/recovery_plan/Draft%20RP%20Amendment%20Applegates%20MV_1.pdf | Jeanne Spaur, kfalls@fws.gov, 541-885-8481 | Klamath Falls Fish and Wildlife Office, 1936 California Ave., Klamath Falls, OR 97601.
El Segundo blue butterfly | Euphilotes battoides allyni | E | CA | El Segundo Blue Butterfly (Euphilotes battoides allyni) Recovery Plan ² | https://ecos.fws.gov/docs/recovery_plan/Draft%20RP%20Amendment%20ESB_1.pdf | Bradd Bridges, fw8cfwocomments@fws.gov, 760 -431-9440 | Carlsbad Fish and Wildlife Office, 2177 Salk Avenue, Suite 250, Carlsbad, CA 92008.
Quino checkerspot butterfly | Euphydryas editha quino | E | CA | Recovery Plan for the Quino Checkerspot Butterfly (Euphydryas editha quino) ² | https://ecos.fws.gov/docs/recovery_plan/Draft%20RP%20Amendment%20for%20QCB_1.pdf
Palos Verdes blue butterfly | Glaucopsyche lygdamus palosverdesensis | E | CA | Palos Verdes Blue Butterfly Recovery Plan ² | https://ecos.fws.gov/docs/recovery_plan/Draft%20RP%20Amendment%20PVB.pdf
San Clemente loggerhead shrike | Lanius ludovicianus mearnsi | E | CA | Recovery Plan for the Endangered and Threatened Species of the California Channel Islands ² | https://ecos.fws.gov/docs/recovery_plan/Draft%20RP%20Amendment%20for%202%20SCI_shrike%20LIMA_1.pdf
San Clemente Island woodland-star | Lithophragma maximum | E | CA
¹ E = endangered; T = threatened.
² Denotes a partial revision (i.e., amendment) to the recovery plan.
³ Denotes a full revision of the recovery plan.

How do I ask questions or provide information?

For any species listed above, please submit your questions, comments, and materials to the appropriate contact in the table above. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533 (f)).

Dated: July 25, 2019.
Margaret E. Everson,
Principal Deputy Director, U.S. Fish and Wildlife Service, Exercising the Authority of the Director for the U.S. Fish and Wildlife Service.

[FR Doc. 2019-16748 Filed 8-5-19; 8:45 am]

BILLING CODE P